DEPARTMENT OF COMMERCE

Foreign-Trade Zones Board

[Order No. 1379]

Approval for Expanded Manufacturing Authority (Soft Drink and Juice Beverage Concentrates), Foreign-Trade Subzone 61J, Pepsi-Cola Manufacturing International, Inc., Cidra, PR

Pursuant to its authority under the Foreign-Trade Zones Act of June 18, 1934, as amended (19 U.S.C. 81a-81u), the Foreign-Trade Zones Board (the Board) adopts the following Order:

Whereas, the Puerto Rico Exports Development Corporation, grantee of FTZ 61, has requested authority on behalf of Pepsi-Cola Manufacturing International, Ltd. (PCMIL), operator of Subzone 61J, at the PCMIL soft drink and juice beverage concentrate manufacturing plant in Cidra, Puerto Rico, to expand the scope of authority to include fruit juice-based beverage concentrates and expanded manufacturing capacity under FTZ procedures (FTZ Doc. 46-2003, filed 9-12-2003);

Whereas, notice inviting public comment was given in the Federal Register (68 FR 54887, 9-19-2003);

Whereas, the application was amended (69 FR 54630, 9-9-2004) to include a restriction requiring the election of privileged foreign status on all foreign-origin orange and grapefruit juice concentrate admitted to Subzone 61J for use in the manufacture of fruit juice beverage/concentrates;

Whereas, the Board adopts the findings and recommendations of the examiner's report, and finds that the requirements of the FTZ Act and the Board's regulations are satisfied, and that approval of the application, as amended, is in the public interest if approval were subject to restriction;

Now Therefore, the Board hereby approves the request, subject to the FTZ Act and the Board's regulations, including Section 400.28, and further subject to a restriction requiring that foreign-origin orange and grapefruit products (classified under HTSUS Heading 2009) used in fruit juice beverage/concentrate production activity must be admitted to the subzone under privileged foreign status (19 CFR 146.41).

Signed in Washington, DC, this 8th day of March 2005.
Joseph A. Spetrini,
Acting Assistant Secretary of Commerce for Import Administration, Alternate Chairman, Foreign-Trade Zones Board.
Attest:
Dennis Puccinelli,
Executive Secretary.

[FR Doc. 05-5532 Filed 3-18-05; 8:45 am]

BILLING CODE 3510-DS-P